ENVIRONMENTAL PROTECTION AGENCY

[FRL-8977-4]

Science Advisory Board Staff Office; Notification of a Public Teleconference of the Science Advisory Board Ecological Processes and Effects Committee

AGENCY: Environmental Protection Agency (EPA).

ACTION: Notice.

SUMMARY: The Environmental Protection Agency (EPA or Agency) Science Advisory Board (SAB) Staff Office announces a public teleconference of the SAB Ecological Processes and Effects Committee Augmented for the Review of Nutrient Criteria Guidance. The Committee will discuss its draft advisory report.

DATES: The public teleconference will be held on December 3, 2009 from 12 (noon) to 2 p.m. (Eastern Time).

ADDRESSES: The public teleconference will be conducted by telephone only.

FOR FURTHER INFORMATION CONTACT: Members of the public who wish to obtain the call-in number and access code to participate in the teleconference may contact Dr. Thomas Armitage, Designated Federal Officer (DFO), EPA Science Advisory Board (1400F), U.S. Environmental Protection Agency, 1200 Pennsylvania Avenue, NW., Washington, DC 20460; telephone/voice mail: (202) 343-9995; fax (202) 233-0643; or via e-mail at: armitage.thomas@epa.gov. General information about the EPA SAB, as well as any updates concerning the teleconference announced in this notice, may be found on the SAB Web site at http://www.epa.gov/sab.

SUPPLEMENTARY INFORMATION: Pursuant to the Federal Advisory Committee Act, 5 U.S.C., App. 2 (FACA), notice is hereby given that the SAB Ecological Processes and Effects Committee Augmented for the Review of Nutrient Criteria Guidance will hold a public teleconference to discuss its draft advisory report. The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

Background: EPA's Office of Water has requested that the SAB review the draft guidance document, Empirical Approaches for Nutrient Criteria Derivation. This document provides information on the use of empirical approaches to describe stressor-response relationships for deriving numeric nutrient criteria. The SAB Ecological Processes and Effects Committee, augmented with additional experts, held a meeting on September 9-11, 2009 to review the EPA guidance document. A Federal Register notice dated August 18, 2009 (74 FR 41696-41697) announced the meeting and provided background information on this advisory activity. Information on the process of augmenting the expertise on the SAB Ecological Processes and Effects Committee was provided in a Federal Register notice dated April 27, 2009 (74 FR 19084-19085). The purpose of this upcoming teleconference is for the Committee to discuss its draft advisory report. Additional information about this advisory activity can be found on the SAB Web site at http://www.epa.gov/sab.

Availability of Meeting Materials: The teleconference agenda and other materials including the SAB Committee's draft report will be placed on the SAB Web site at http://www.epa.gov/sab/ in advance of the teleconference.

Procedures for Providing Public Input: Interested members of the public may submit relevant written or oral information for the SAB Panel to consider during the advisory process.

Oral Statements: In general, individuals or groups requesting an oral presentation at a public teleconference will be limited to three minutes per speaker, with no more than a total of 30 minutes for all speakers. Interested parties should contact Dr. Armitage, DFO, in writing (preferably via e-mail) at the contact information noted above, by November 24, 2009 to be placed on the list of public speakers for the teleconference. Written Statements: Written statements should be received in the SAB Staff Office no later than November 30, 2009 so that the information may be made available to the SAB Panel members for their consideration. Written statements should be supplied to the DFO in the following formats: one hard copy with original signature, and one electronic copy via e-mail (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Dr. Armitage at the phone number or e-mail address noted above, preferably at least ten days prior to the meeting to give EPA as much time as possible to process your request.

Dated: October 28, 2009.
Anthony F. Maciorowski,
Deputy Director, EPA Science Advisory Board Staff Office.

[FR Doc. E9-26418 Filed 11-2-09; 8:45 am]

BILLING CODE 6560-50-P